DEPARTMENT OF THE INTERIOR

Bureau of Indian Affairs

25 CFR Part 39

RIN 1076-AE54

Conforming Amendments To Implement the No Child Left Behind Act of 2001

AGENCY: Bureau of Indian Affairs, Interior.

ACTION: Final rule.

SUMMARY: This final rule renumbers certain sections of 25 CFR part 39 in order to conform to the amendments published on April 28 and to rationalize the number system in part 39. It also eliminates two obsolete cross references.

DATES: Effective June 9, 2005.

FOR FURTHER INFORMATION CONTACT: Catherine Freels, Designated Federal Official, PO Box 1430, Albuquerque, NM 87103-1430; Phone 505-248-7240; e-mail: cfreels@bia.edu.

SUPPLEMENTARY INFORMATION: On April 28, 2005, the Department published in the Federal Register (70 FR 22178) the final rule implementing the No Child Left Behind Act of 2001 (the Act). The April 28 rule revised subparts A through H of part 39, while leaving subparts I through L unaffected. Although subparts I through L were unchanged by publication of the April 28 rule, the section numbers used in those subparts were used for some of the sections in the revised subparts A through H. Through an unintentional oversight, the Department did not renumber the sections of subparts I through L to eliminate duplication. This rectifies this oversight by renumbering all sections in subparts I through L in order to remove potential conflicts from Title 25. It also removes two obsolete cross references.

Compliance Information

1. Regulatory Planning and Review (E.O. 12866). This document is not a significant rule and the Office of Management and Budget has not reviewed this rule under Executive Order 12866.

(1) This rule will not have an effect of $100 million or more on the economy. It will not adversely affect in a material way the economy, productivity, competition, jobs, the environment, public health or safety, or State, local, or tribal governments or communities.

(2) This rule will not create a serious inconsistency or otherwise interfere with an action taken or planned by another agency.

(3) This rule does not alter the budgetary effects of entitlements, grants, user fees, or loan programs or the rights or obligations of their recipients.

(4) This rule does not raise novel legal or policy issues. It makes only changes necessary to ensure that these sections of 25 CFR conform to the changes made by the new rule being published in final today.

2. Regulatory Flexibility Act. The Department of the Interior certifies that this document will not have a significant economic effect on a substantial number of small entities under the Regualtory Flexibility Act (5 U.S.C. 601 et seq.).

3. Small Business Regulatory Enforcement Fairness Act (SBREFA). This rule is not a major rule under 5 U.S.C. 804(2), the Small Business Regulatory Enforcement Fairness Act. This rule:

a. Does not have an annual effect on the economy of $100 million or more.

b. Will not cause a major increase in costs or prices for consumers, individual industries, Federal, State, or local government agencies, or geographic regions.

c. Does not have significant adverse effects on competition, employment, investment, productivity, innovation, or the ability of U.S.-based enterprises to compete with foreign-based enterprises.

4. Unfunded Mandates Reform Act. This rule does not impose an unfunded mandate on State, local, or tribal governments or the private sector of more than $100 million per year. The rule does not have a significant or unique effect on State, local, or tribal governments or the private sector. The rule makes only changes necessary to ensure that these sections of 25 CFR conform to the changes made by the new rule being published in final today.

5. Takings (E.O. 12630). In accordance with Executive Order 12630, the rule does not have significant takings implications. No rights, property or compensation has been, or will be taken. A takings implication assessment is not required.

6. Federalism (E.O. 13132). In accordane with Executive Order 13132, this rule does not have federalism implications that warrant the preparation of a federalism assessment.

7. Civil Justice Reform (E.O. 12988). In accordance with Executive Order 12988, the Office of the Solicitor has determined that this rule does not unduly burden the judicial system and meets the requirements of sections 3(a) and 3(b)(2) of the Order.

8. Consultation with Indian tribes (E.O. 13175). In accordance with Executive Order 13175, we have evaluated this rule and determined that it has no potential negative effects on federally recognized Indian tribes. In drafting the No Child Left Behind rule published today, we consulted extensively with tribes; tribal members of the negotiated rulemaking committee participated in the writing of the rule. These conforming amendments make only changes necessary to ensure that the remainder of 25 CFR is consistent with the provisions of the No Child Left Behind rule.

9. Paperwork Reduction Act. This regulation does not require an information collection from 10 or more parties and a submission under the Paperwork Reduction Act is not required. An OMB form 83-I is not required.

10. National Environmental Policy Act. This rule does not constitute a major Federal action significantly affecting the quality of the human environment.

11. Justification for Issuing a Direct Final Rule. The Department has determined that the public notice and comment provisions of the Administrative Procedure Act, 5 U.S.C. 553(b), do not apply to this rule because of the good cause exception under 5 U.S.C. 553(b)(3)(B). This exception allows the agency to suspend the notice and public procedure requirements when the agency finds for good cause that those requirements are impracticable, unnecessary, or contrary to the public interest. This rule renumbers (redesignates) certain sections of 25 CFR part 39 in order to conform to the amendments published on April 28, it makes no substantive changes. Failure to immediately make these redesignations would lead to confusion and cause errors in vital educational programs. For these reasons, public comments are unnecessary and would be impracticable.

Similarly, failure to immediately make the redesignations in this rule would result in a serious disruption of the Bureau of Indian Affairs' ability to provide necessary educational services, with accompanying confusion to employees and the public. This disruption and confusion would be contrary to public and tribal interests. For these reasons, the Department has determined it appropriate to waive the requirement of publication 30 days in advance of the effective date. As allowed by 5 U.S.C. 553(d)(3), this rule is effective immediately because it is in the public interest not to delay implementation of this amendment.

List of Subjects in 25 CFR Part 39

Indians—education, Schools, Elementary and secondary education programs, Government programs—education.

Dated: May 23, 2005.
Michael D. Olsen,
Acting Principal Deputy Assistant Secretary—Indian Affairs.

For the reasons given in the preamble, part 39 of title 25 of the Code of Federal Regulations is amended as set forth below.

PART 39—THE INDIAN SCHOOL EQUALIZATION PROGRAM

1. The authority for part 39 continues to read as follows:

Authority: 25 U.S.C. 13; 25 U.S.C. 2008; Pub. L. 107-110.

2. In Subparts I through L, §§ 39.110 through 39.143 are redesignated as shown in the following table:

Current section number | Redesignated section number
39.110 | 39.900
39.111 | 39.901
39.112 | 39.902
39.113 | 39.903
39.114 | 39.904
39.120 | 39.1000
39.121 | 39.1001
39.122 | 39.1002
39.123 | 39.1003
39.130 | 39.1100
39.131 | 39.1101
39.140 | 39.1200
39.141 | 39.1201
39.142 | 39.1202
39.143 | 39.1203

§ 39.1100 [Amended]

3. In newly redesignated § 39.1100, in the last sentence, the words “detailed in § 39.19” are removed.

4. In newly redesignated § 39.1202(c), the words “as set forth in § 39.19” are removed.

[FR Doc. 05-11445 Filed 6-8-05; 8:45 am]

BILLING CODE 4310-02-M